DEPARTMENT OF HOUSING AND URBAN DEVELOPMENT

[Docket No. FR-5681-N-32]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Mr. Robert Moore, Air Force Real Property Agency, 2261 Hughes Avenue, Suite 156, Lackland AFB, TX, 78236-9852, (210)-395-9512; Energy: Mr. Mark Price, Department of Energy, Office of Engineering & Construction Management, MA-50, 1000 Independence Ave. SW., Washington, DC 20585: (202) 586-5422; GSA: Mr. Flavio Peres, General Services Administration, Office of Real Property Utilization and Disposal, 1800 F Street NW., Room 7040 Washington, DC 20405, (202) 501-0084; Interior: Mr. Michael Wright, Acquisition & Property Management, Department of the Interior, 1801 Pennsylvania Ave. NW., 4th Floor, Washington, DC 20006: (202) 254-5522; Navy: Mr. Steve Matteo, Department of the Navy, Asset Management Division, Naval Facilities Engineering Command, Washington Navy Yard, 1330 Patterson Ave. SW., Suite 1000, Washington, DC 20374; (202)685-9426; (These are not toll-free numbers).

Dated: August 1, 2013.
Mark Johnston,
Deputy Assistant Secretary for Special Needs.

TITLE V, FEDERAL SURPLUS PROPERTY PROGRAM FEDERAL REGISTER REPORT FOR 08/09/2013

Suitable/Available Properties

Building

California

Building 1811

Marine Corps Air Ground

Task Force Trng.

Twentynine Palms CA 92278

Landholding Agency: Navy

Property Number: 77201330008

Status: Excess

Comments: Off-site removal only; 5,050 sf.; storage; 59 yrs.-old; very poor conditions; secured area; contact Navy for accessibility and removal requirements

Building 5175

Marine Corps Air Ground

Combat Ctr.

Twentynine Palms CA 92278

Landholding Agency: Navy

Property Number: 77201330009

Status: Excess

Comments: Off-site removal only; 1,200 sf.; storage; 14 yrs.-old; very poor conditions; secured area; contact Navy for accessibility and removal requirements

Building 1303

Marine Corps Air Ground

Combat Ctr.

Twentynine Palms CA 92278

Landholding Agency: Navy

Property Number: 77201330010

Status: Excess

Comments: Off-site removal only; 4,040 sf.; storage; 49 yrs.-old; very poor conditions; secured area; contact Navy for accessibility and removal requirements

Building 1301

Marine Corps Air Ground

Combat Ctr.

Twentynine Palms CA 92278

Landholding Agency: Navy

Property Number: 77201330011

Status: Excess

Comments: Off-site moral only; 4,040 sf.; storage; 49 yrs.-old; very poor conditions; secured area; contact Navy for accessibility and removal requirements

Building 1305

Marine Corps Air Ground

Combat Ctr.

Twentynine Palms CA 92278

Landholding Agency: Navy

Property Number: 77201330012

Status: Excess

Comments: Off-site removal only; 4,040 sf.; storage; 49 yrs.-old; very poor conditions; secured area; contact Navy for accessibility and removal requirements

Georgia

Mobile Lab Trailer; 660400B005

RPUID 03.55443 Lab

20406; Site 00: Nat'l Peanut Research

Shellman GA 39886

Landholding Agency: Agriculture

Property Number: 15201330015

Status: Excess

Directions: 1632 Burny Rd.

Comments: off-site removal only; 480 sf.; storage; good/moderate conditions; contact Agriculture for more info.

5 Buildings

Moody Air Force Base

Moody GA 31699

Landholding Agency: Air Force

Property Number: 18201330006

Status: Underutilized

Directions: 1703 (853 sf.); 907 & 908 (9,186 sf. each); 662 & 754 (10,240 sf. each)

Comments: Very poor conditions; 50- 70 yrs.-old; contamination; secured area; transferee will need escort each time to access property; contact Air Force for more info.

Idaho

Black Canyon Office, Warehouse & Classroom

3999 E. Black Canyon Hwy

Emmett ID 83617

Landholding Agency: Interior

Property Number: 61201330038

Status: Underutilized

Comments: Off-site removal only; no future agency need; 4,880 sf.; 48 yrs.-old; office's roof needs replacing; good/moderate conditions; secured area; contact Interior for more info.

Suitable/Unavailable Properties

Land

California

Delano Transmitting Station

1105 Melcher Rd.

Delano CA 93215

Landholding Agency: GSA

Property Number: 54201330005

Status: Excess

GSA Number: 9-X-CA-1671

Directions: Landholding Agency: Broadcasting Board of Governors Disposal Agency: GSA

Comments: 800 acres; mostly land and a few bldgs.; unavailable due to Federal interest; transmitting station; vacant since 2007; access can be gain by appt. only; contact GSA for more info.

Unsuitable Properties

Building

New Mexico

8 Buildings

Los Alamos Nat'l Lab

Los Alamos NM 87545

Landholding Agency: Energy

Property Number: 41201330001

Status: Excess

Directions: 03-0035, 36-0019, 46-0041, 46-0074, 46-0076, 48-0002, 52-0001, 53-0673

Comments: Highly secured area; public access denied and no alternative method to gain access w/out compromising nat'l security

Reasons: Secured Area

[FR Doc. 2013-18921 Filed 8-8-13; 8:45 am]

BILLING CODE 4210-67-P